DEPARTMENT OF HEALTH AND HUMAN SERVICES

National Institutes of Health

Center for Scientific Review; Amended Notice of Meeting

Notice is hereby given of a change in the meeting of the Cellular and Molecular Biology of the Kidney Study Section, June 12, 2006, 8 a.m. to June 13, 2006, 1 p.m., Holiday Inn Select Bethesda, 8120 Wisconsin Ave., Bethesda, MD 20814 which was published in the Federal Register on May 16, 2006, 71 FR 28365-28367.

The meeting will be held at the Holiday Inn—Gaithersburg, 2 Montgomery Village Avenue, Gaithersburg, MD 20879. The meeting dates and time remain the same. The meeting is closed to the public.

Dated: June 2, 2006.
Anna Snouffer,
Acting Director, Office of Federal Advisory Committee Policy.

[FR Doc. 06-5266 Filed 6-8-06; 8:45 am]

BILLING CODE 4140-01-M